DEPARTMENT OF THE INTERIOR

Fish and Wildlife Service

[FWS-R4-R-2008-N0050; 40136-1265-0000-S3]

Lower Florida Keys Refuges, Monroe County, FL

AGENCY: Fish and Wildlife Service, Interior.

ACTION: Notice of availability; draft comprehensive conservation plan and environmental assessment; request for comments.

SUMMARY: We, the U.S. Fish and Wildlife Service (Service), announce the availability of a draft comprehensive conservation plan and environmental assessment (Draft CCP/EA) for the Lower Florida Keys Refuges for public review and comment. This DRAFT CCP/EA covers National Key Deer Refuge, Key West National Wildlife Refuge, and Great White Heron National Wildlife Refuge. In this Draft CCP/EA, we describe the alternative we propose to use to manage these refuges for the 15 years following approval of the Final CCP.

DATES: To ensure consideration, we must receive your written comments by June 23, 2008. Two meetings will be held to present the Draft CCP/EA to the public. Mailings, newspaper articles and posters will inform the public of the dates, times, and locations of the meetings.

ADDRESSES: Requests for copies of the Draft CCP/EA should be addressed to: Florida Keys National Wildlife Refuge Complex, Attn: Anne Morkill, Refuge Manager, 28950 Watson Boulevard, Big Pine Key, FL 33043; or, you may submit comments by e-mail to Mary Morris, Natural Resource Planner, at mary_morris@fws.gov. A copy of the Draft CCP/EA is available on compact diskette or hard copy.

You may view or obtain copies of the Draft CCP/EA by visiting the National Key Deer Refuge's visitor center located in the Big Pine Shopping Plaza, 175 Key Deer Boulevard, Big Pine Key, FL. Copies may also be viewed at the following Monroe County Public Libraries: Big Pine Key Branch, 213 Key Deer Boulevard, Big Pine Key, FL; Marathon Branch, 3251 Overseas Highway, Marathon, FL; and at the Key West Branch, 700 Fleming Street, Key West, FL.

You may also access or download copies of the Draft CCP/EA at the following Web site address: http://southeast.fws.gov/planning.

FOR FURTHER INFORMATION CONTACT: Mary Morris, Natural Resources Planner, at 850-567-6202; or Anne Morkill, Refuge Manager, at 305-872-2239.

SUPPLEMENTARY INFORMATION:

Introduction

With this notice, we continue the CCP process for the Lower Keys National Wildlife Refuges. We started the process through a notice in the Federal Register on May 9, 2003 (68 FR 25058).

The Lower Florida Keys Refuges include three wildlife refuges—Key West and Great White Heron National Wildlife Refuges and National Key Deer Refuge, all in Monroe County, Florida.

Key West National Wildlife Refuge

Key West National Wildlife Refuge, west of Key West, Florida, and accessible only by boat or plane, consists of the Marquesas Keys and 13 other keys distributed across more than 375 square miles of open water. Key West Refuge is among the first refuges established in the United States. President Roosevelt created the refuge in 1908 as a preserve and breeding ground for colonial nesting birds and other wildlife. The refuge encompasses 208,308 acres of land and water with only one percent (2,019 acres) being land. Most islands are dominated by mangrove plant communities. Exceptions are the hardwood hammock in the Marquesas Keys, and the beaches and dunes there and on Boca Grande and Woman Keys. All islands lack fresh water and native, terrestrial mammals are absent.

The refuge provides habitat and protection for federally listed species, including piping plovers and roseate terns. The refuge harbors the largest wintering population of piping plovers and the largest colony of white-crowned pigeons in the Florida Keys. It is a haven for over 250 species of birds, including ten wading bird species that nest on the refuge. Other notable imperiled species include sea turtles. More loggerhead and green sea turtle nests are found each year on this refuge than in any area of the Florida Keys except the Dry Tortugas. Waters within the refuge's administrative boundaries are important developmental habitat for these sea turtle species, as well as hawksbills and Kemp's ridley sea turtles.

In 1975, Public Law 93-632 designated all islands on Key West Refuge, except Ballast Key, which is privately owned, as a part of the National Wilderness Preservation System. These islands total 2,109 acres.

Great White Heron National Wildlife Refuge

Great White Heron National Wildlife Refuge was established in 1938, by Executive Order 7993 signed by President Roosevelt, as a haven for great white herons, migratory birds, and other wildlife. The refuge encompasses 117,683 acres of land and water with 6,500 acres of land, the latter of which 1,900 were designated Wilderness in 1975, also under Public Law 93-632. The islands account for approximately 7,600 acres and are primarily mangroves. Some of the larger islands contain pine rockland and tropical hardwood hammock habitats. This vast area, known locally as the “backcountry,” provides critical nesting, feeding, and resting areas for more than 250 species of birds. The Service co-manages the open water and submerged lands owned by the State of Florida through a Management Agreement.

Great white herons are a white color-phase of great blue herons. In the United States, nesting is restricted to extreme south Florida, including the Florida Keys. The refuge was created to protect great white herons from extinction since the population was decimated by the demand for feathered hats. Protection of great white herons was successful, and these magnificent birds can be observed feeding on tidal flats throughout the refuge. The refuge islands are also used for nesting by ten wading bird species, including the reddish egret, and by many neotropical migratory bird species.

A few green and loggerhead sea turtles nest on Sawyer Key. These species, as well as hawksbill and possibly Kemp's ridley sea turtles, forage in State waters within refuge boundaries.

National Key Deer Refuge

National Key Deer Refuge was established on August 22, 1957, to protect and preserve Key deer and other wildlife resources. It comprises about 8,983 acres of land on several islands within the approved acquisition boundary, as well as additional parcels located outside the boundary administered by the refuge. These lands host diverse habitats, most notably globally endangered tropical hardwood hammocks and pine rocklands. The refuge provides habitat for hundreds of endemic and migratory species, including 21 federally listed species, such as the Key deer, Lower Keys marsh rabbit, and silver rice rat. It contains a variety of plants endemic to the Florida Keys.

The refuge is an important stopping point for thousands of migrating birds each year and an important wintering ground for many North American bird species. Notable species include the piping plover and peregrine falcon. The mosaic of upland and wetland habitats found in the Florida Keys are critical breeding and feeding grounds for birds, and refuge land acquisition efforts strive to add to the lands already protected.

Loggerhead, green, hawksbill, and Kemp's ridley sea turtles forage in the waters surrounding the refuge, but nesting is limited to refuge lands on Ohio Key, where a small number of loggerhead turtle nests are laid annually.

There are 2,278 acres of Wilderness designated on this refuge as of 1975 per Public Law 632.

Refuge Purposes

The purposes of the refuges come from the executive orders and subsequent laws Congress passed as it established each refuge. There are also specific purposes Congress designated for managing the National Wildlife Refuge System as a whole. Each of the three refuges has different enabling legislation and purposes. This Draft CCP/EA has been designed with consideration of the distinct purposes of each refuge. These purposes are as follows:

Key West National Wildlife Refuge

“ * * * a preserve and breeding ground for native birds.” EO 923 dated August 8, 1908.

“ * * * particular value in carrying out the national migratory bird management program.” 16 U.S.C. 667b (An Act Authorizing the Transfer of Certain Real Property for Wildlife, or other purposes).

“ * * * so as to provide protection of these areas * * * and to ensure * * * the preservation of their wilderness character * * *” (Wilderness Act of 1964, Pub. L. 88-577.)

Great White Heron National Wildlife Refuge

“ * * * as a refuge and breeding ground for great white herons (white phase of the great blue heron), other migratory birds and other wildlife.” EO 7993, dated Oct 27, 1938.

“ * * * for use as an inviolate sanctuary, or for any other management purpose, for migratory birds.” 16 U.S.C. 715d (Migratory Bird Conservation Act).

“ * * * to conserve (A) fish or wildlife which are listed as endangered species or threatened species * * * or (B) plants * * *” 16 U.S.C. 1534 (Endangered Species Act of 1973).

“ * * * suitable for (1) incidental fish and wildlife-oriented recreational development, (2) the protection of natural resources, (3) the conservation of endangered species or threatened species * * *” 16 U.S.C. 460k-1 “* * * the Secretary * * * may accept and use * * * real * * * property. Such acceptance may be accomplished under the terms and conditions of restrictive covenants imposed by donors * * *” 16 U.S.C. 460k-2 (Refuge Recreation Act (16 U.S.C. 460k-460k-4), as amended).

“* * * so as to provide protection of these areas * * * and to ensure * * * the preservation of their wilderness character * * *” (Wilderness Act of 1964, Pub. L. 88-577.)

National Key Deer Refuge

“* * * to protect and preserve in the national interest the Key deer and other wildlife resources in the Florida Keys.” 71 Stat. 412, dated Aug. 22, 1957.

“* * * to conserve (A) fish or wildlife which are listed as endangered species or threatened species * * * or (B) plants * * *” 16 U.S.C. 1534 (Endangered Species Act of 1973).

“* * * suitable for (1) incidental fish and wildlife-oriented recreational development, (2) the protection of natural resources, (3) the conservation of endangered species or threatened species * * *” 16 U.S.C. 460k-1 “* * * the Secretary * * * may accept and use * * * real * * * property. Such acceptance may be accomplished under the terms and conditions of restrictive covenants imposed by donors * * *” 16 U.S.C. 460k-2 [Refuge Recreation Act (16 U.S.C. 460k-460k-4], as amended).

“* * * for the development, advancement, management, conservation, and protection of fish and wildlife resources * * *” 16 U.S.C. 742f(a)(4) “* * * for the benefit of the United States Fish and Wildlife Service, in performing its activities and services. Such acceptance may be subject to the terms of any restrictive or affirmative covenant, or condition of servitude * * *” 16 U.S.C. 742f(b)(1) (Fish and Wildlife Act of 1956).

“* * * conservation, management, and * * * restoration of the fish, wildlife, and plant resources and their habitats * * * for the benefit of present and future generations of Americans * * *” 16 U.S.C. 668dd(a)(2) (National Wildlife Refuge System Administration Act).

“* * * so as to provide protection of these areas * * * and to ensure * * * the preservation of their wilderness character * * *” (Wilderness Act of 1964, Pub. L. 88-577.)

Background

The CCP Process

The National Wildlife Refuge System Improvement Act of 1997 (16 U.S.C. 668dd-668ee), which amended the National Wildlife Refuge System Administration Act of 1966, requires us to develop a CCP for each national wildlife refuge. The purpose in developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act and NEPA.

Significant issues addressed in the Draft CCP/EA include: Habitat fragmentation, fire management, climate change, lack of inventory and monitoring, changing public use attitudes, needs and demands, exotic species control, imperiled species recovery, and administrative resources.

Alternatives

A full description of each alternative is in the Draft CCP/EA. We summarize each alternative below.

Alternative A—No Action Alternative

The Lower Florida Keys refuges have a high diversity of community types and endemic species, with many threatened, endangered, rare, and imperiled species. The primary mission of these refuges is to provide habitat for wildlife. The refuges currently have a small staff and funding source for the inventory and monitoring of natural resources. Much effort has been put into some resources, such as Key deer and their pine rockland habitat, as a result of cooperative partnerships with academic and other research organizations. Certain species, such as great white herons, white-crowned pigeons, reddish egrets, and sea turtles, have been studied over time by refuge biological staff and academic partners. Under this alternative, these studies would continue.

Baseline data have yet to be established for some protected species, species suites, habitats, and cultural resources. The effects of natural catastrophes (e.g., Hurricane Wilma in 2005) on the refuges' resources have not been assessed and the effect of climate change (e.g., sea level rise) is not known.

Threatened and endangered species are protected through a variety of management tools, such as area closures, law enforcement, exotic plant control, etc. Limited research and monitoring of focal species, such as Key deer and Lower Keys marsh rabbit and some migratory birds (e.g., reddish egrets), would continue by utilizing existing staff and partnerships. The National Key Deer Refuge prescribed fire management program would continue with the objectives to reduce fuels and to sustain the pine rockland ecosystem.

The Service would continue habitat conservation through land acquisition within the approved acquisition boundary and cooperative agreements with other agencies for non-refuge lands that support the refuges' missions. Partnerships exist to promote land conservation. Exotic plant control to protect and maintain current habitat would occur at existing levels. Currently, exotic plants are controlled through partnerships with The Nature Conservancy, the State, and Monroe County. A predator management program has been initiated on National Key Deer Refuge to reduce the effects of feral cat predation on the endangered Lower Keys marsh rabbit.

Ecologically sensitive areas and living resources are protected from disturbance or degradation through the use of closure areas, law enforcement, and the implementation of the Management Agreement for Submerged Lands within the Key West and Great White Heron National Wildlife Refuges. The effects of commercial activities and public uses (both wildlife-dependent and non-wildlife-dependent) have not been fully evaluated and carrying capacities are unknown.

The Service has an active volunteer program to assist in all facets of refuge management. Partnerships for these purposes and research are encouraged and maintained. Under this alternative, the existing level of administrative resources (staffing, facilities and assets, funding, and partnerships) would be maintained. This means some positions may not be filled when vacated if funds need to be reallocated to meet rising costs or new priorities.

Alternative B—Proposed Alternative

This alternative assumes a slow to moderate growth of refuge resources over the 15-year implementation period of the CCP. It proposes a management direction for the enhancement of wildlife populations by promoting a natural diversity and abundance of habitats for native plants and animals, especially Keys' endemic, trust, and keystone imperiled species. Many of the objectives and strategies are designed to maintain and restore native communities, particularly the globally imperiled pine rocklands, salt marsh and freshwater wetlands, and the island beach berm communities. Research and monitoring would provide essential information for implementing an adaptive management approach to ecosystem conservation. This alternative would provide for obtaining baseline data for ecosystem health.

Current ongoing and proposed programs and efforts focus on threatened, endangered, rare, and imperiled species of plants and animals. The need for more comprehensive inventory and monitoring for baseline data is addressed in this alternative, particularly for priority imperiled species and their habitats within the refuges. Habitat carrying capacity for Key deer, by island, would be determined and the feasibility of population management would be considered within the realm of the South Florida Multi-Species Recovery Plan in accordance with the Endangered Species Act.

Habitat enhancement for critically imperiled species, such as the Lower Keys marsh rabbit and Key tree-cactus, would occur to ensure the long-term sustainability of these species. Opportunities for land acquisition from willing sellers would focus on protecting more marsh rabbit habitat. Off-refuge nursery propagation of the Key tree-cactus would be implemented for later translocation to suitable refuge habitats. Research would be initiated to identify causal reasons for the marked, long-term decline in the great white heron nesting population.

Since a primary purpose of the refuges is to provide sanctuary for nesting and migratory birds, greater protection from human disturbance would be provided, particularly at colonial nesting bird rookeries and at beach habitats in the backcountry islands. Additional limitations to public use may be implemented in sensitive beach areas important for shorebirds, terns, sea turtles, and butterflies.

Strategies are proposed to improve the fire-dependent pine rocklands and to enhance habitat features in salt marsh and freshwater wetlands that benefit priority species on the National Key Deer Refuge. Prescribed fire and mechanical or manual vegetation treatments would be used as habitat management tools to reduce wildland fuels and benefit priority species and habitats where appropriate. Predictive modeling and fire effects monitoring would be used on all prescribed-fire treatments in an adaptive management approach to develop site-specific burn prescriptions and to determine whether objectives were met. The National Key Deer Refuge habitat and fire management plans would be revised and implemented accordingly.

Exotic plant control would continue as an ongoing operation within the refuges in order to maintain habitats and prevent new infestations. Cooperative efforts would be sought to control seed sources from private lands and to increase coordinated mapping and monitoring of areas with known infestations. Management of non-native and exotic animals would be implemented as directed by the South Florida Multi-Species Recovery Plan for the benefit of threatened and endangered species.

A primary focus of the visitor services program, as proposed, is to enhance environmental education and outreach efforts substantially to reach larger numbers of students, educators, and visitors. This alternative also focuses on increasing public awareness, understanding, and support for the refuges' conservation mission. It places priority on wildlife-dependent uses, such as wildlife photography and wildlife observation. A Visitor Services' step-down plan would specify program details consistent with the Service's visitor services' program standards. Non-wildlife-dependent forms of recreation would be limited or restricted in sensitive areas and awareness efforts would be stepped-up to inform visitors about protecting Wilderness areas.

The basic administrative and operational needs of the refuges have been addressed. Essential new staffing is proposed through the addition of six permanent full-time staff. Daily operation of the refuge would be guided by the CCP through the development and implementation of eleven step-down management plans. Wilderness and cultural resource protection objectives and strategies would be incorporated within the appropriate step-down management plans. The modest growth in resources would be used for wildlife monitoring and habitat enhancement to better serve the refuges' purposes and the CCP's vision. Existing facilities and vehicles would be maintained with the exception of the new visitor services' facility that is proposed.

Alternative C

This alternative assumes a moderate to substantial growth of the refuges' resources from internal or external sources. It would more fully realize the refuges' missions and address the huge number of imperiled species and habitat types. While Alternative C contains many of the provisions to protect and restore habitats similar to Alternative B, it emphasizes a broader suite of priority species. The long-term ecological inventory and monitoring plan would be expanded to cover more species and species suites. Additional studies on some species would be undertaken and additional biological staffing would be required. The use of captive, off-refuge sources of some species facing potential extirpation (e.g., Lower Keys marsh rabbits) would be explored for reintroduction after a natural catastrophe, such as a major hurricane. In certain habitats, some alternative habitat management techniques would be studied and applied. Education and outreach programs on alternative habitat management tools and strategies are proposed. Studies to monitor the immediate and/or long-term effects of natural, catastrophic events (e.g., hurricanes) and global climate change, particularly sea level rise, would be initiated.

Under this alternative, the plan anticipates shifts in the Visitor Services' Program if visitation and public use increase. Positions are proposed to add another refuge ranger position to coordinate and enhance volunteerism and to foster relationships with the refuges' friends group and other partners for environmental education and outreach programs.

Resource protection and visitor safety would be greatly enhanced through this alternative, with the addition of two new law enforcement officers. This would allow for more patrol and enforcement of closed areas and for more protection of sensitive areas, especially of Wilderness areas or cultural resource sites. A cultural resources' inventory would be conducted.

The operation of the refuges for meeting their goals and purposes would be more optimally realized under this alternative. Implementation of the plan, including details of refuge operations, would also occur through the development of eleven step-down management plans. New staffing is proposed through the addition of seven permanent full-time staff. These positions are in addition to the six full-time positions proposed in Alternative B, for a total of thirteen full-time positions with Alternative C. New maintenance and staff housing facilities are proposed along with new vehicles and boats to accommodate the staffing increases.

Next Step

After the comment period ends, we will analyze the comments and address them in the form of a final CCP and a Finding of No Significant Impact.

Public Availability of Comments

Before including your address, phone number, e-mail address, or other personal identifying information in your comment, you should be aware that your entire comment—including your personal identifying information—may be made publicly available at any time. While you can ask us in your comment to withhold your personal identifying information from public review, we cannot guarantee that we will be able to do so.

Authority: This notice is published under the authority of the National Wildlife Refuge System Improvement Act of 1997, Public Law 105-57.

Dated: April 8, 2008.
Cynthia K. Dohner,
Acting Regional Director.

[FR Doc. E8-11617 Filed 5-22-08; 8:45 am]

BILLING CODE 4310-55-P